DEPARTMENT OF COMMERCE

National Oceanic and Atmospheric Administration

50 CFR Part 679

[Docket No. 000629198-1038-02; I.D. 051500D]

RIN 0648-AM72

Fisheries of the Exclusive Economic Zone Off Alaska; Western Alaska Community Development Quota Program; Correction

AGENCY: National Marine Fisheries Service (NMFS), National Oceanic and Atmospheric Administration (NOAA), Commerce.

ACTION: Final rule; correction.

SUMMARY: This document corrects a paragraph designation in the regulatory text of the final rule implementing Amendment 66 to the Fishery Management Plan for the Groundfish Fishery of the Bering Sea and Aleutian Islands Area (FMP).

DATES: Effective April 6, 2001.

FOR FURTHER INFORMATION CONTACT: Sally Bibb, 907-586-7389, sally.bibb@noaa.gov.

SUPPLEMENTARY INFORMATION:

Background

A final rule was published in the Federal Register on March 7, 2001 (66 FR 13672), implementing Amendment 66. This amendment removes the allocation of squid to the Western Alaska Community Development Quota Program to prevent the catch of squid from limiting the catch of pollock CDQ. Also, Amendment 66 implements a regulatory amendment defining directed fishing for pollock CDQ.

Need for Correction

As published, the final rule added a new paragraph to the definition for “directed fishing,” which was incorrectly designated.

Correction

In the final rule to implement Amendment 66 to the FMP published at 66 FR 13672, March 7, 2001, FR Doc. 01-5558, the following corrections are made:

1. On page 13677, column 3, instruction 2 is corrected to read:

“2. In § 679.2, in the definition for “Directed fishing”, a new paragraph (5) is added to read as follows:”

§ 679.2 [Corrected]

2. On page 13677, column 3, in § 679.2, in the definition for “Directed fishing”, paragraph (4) is correctly redesignated as paragraph (5).

Dated: March 16, 2001.
William T. Hogarth,
Acting Assistant Administrator for Fisheries, National Marine Fisheries Service.

[FR Doc. 01-7152 Filed 3-21-01; 8:45 am]

BILLING CODE 3510-22-S